DEPARTMENT OF ENERGY

Federal Energy Regulatory Commission

Combined Notice of Filings

Take notice that the Commission has received the following Natural Gas Pipeline Rate and Refund Report filings:

Filings Instituting Proceedings

Docket Numbers: CP19-2-000.

Applicants: Northern Natural Gas Company.

Description: Abbreviated Application for Order Permitting and Approving Abandonment of Service of Northern Natural Gas Company.

Filed Date: 10/08/18.

Accession Number: 20181009-5286.

Comments Due: 5 p.m. ET 10/30/18.

Docket Number: PR18-74-001.

Applicants: Columbia Gas of Ohio, Inc.

Description: Tariff filing per 284.123(b),(e)/: Revised SOC PR18-74 Effective 9-1-2018.

Filed Date: 10/9/18.

Accession Number: 201810095170.

Comments/Protests Due: 5 p.m. ET 10/30/18.

Docket Number: PR18-80-001.

Applicants: Caprock Permian Natural Gas Transmission LLC.

Description: Tariff filing per 284.123(b),(e)/: Caprock re-file amendment 10-12-18 to be effective 8/15/2018.

Filed Date: 10/12/18.

Accession Number: 201810125144.

Comments/Protests Due: 5 p.m. ET 11/2/18.

Docket Number: PR19-1-000.

Applicants: Atmos Pipeline-Texas.

Description: Tariff filing per 284.123(b),(e)/: APT October TCJA Filing to be effective 8/1/2018.

Filed Date: 10/3/18.

Accession Number: 201810035129.

Comments/Protests Due: 5 p.m. ET 10/24/18.

Docket Number: PR19-2-000.

Applicants: Columbia Gas of Ohio, Inc.

Description: Tariff filing per 284.123(b),(e)/: COH Rates effective 9/28/2018.

Filed Date: 10/9/18.

Accession Number: 201810095180.

Comments/Protests Due: 5 p.m. ET 10/30/18.

Docket Number: PR19-4-000.

Applicants: Northwest Natural Gas Company.

Description: Tariff filing per 284.123(b)(2)+(g): Northwest Natural Gas Petition for Rate Approval to be effective 11/1/2018.

Filed Date: 10/12/18.

Accession Number: 201810125170.

Comments Due: 5 p.m. ET 11/2/18.

284.123(g) Protests Due: 5 p.m. ET 12/11/18.

Docket Number: PR19-5-000.

Applicants: Ameren Illinois Company.

Description: Tariff filing per 284.123(b),(e)/: Statement of Currently Effective Rates to be effective 11/1/2018.

Filed Date: 10/12/18.

Accession Number: 201810125178.

Comments/Protests Due: 5 p.m. ET 11/2/18.

Docket Number: PR19-6-000.

Applicants: The Peoples Gas Light and Coke Company.

Description: Tariff filing per 284.123(b)(2)+(g): Petition for Approval of Rates Pursuant to 284.123 and 284.224 to be effective 11/1/2018.

Filed Date: 10/15/18.

Accession Number: 201810155033.

Comments Due: 5 p.m. ET 11/5/18.

284.123(g) Protests Due: 5 p.m. ET 12/14/18.

Docket Number: PR19-7-000.

Applicants: Northern Illinois Gas Company.

Description: Tariff filing per 284.123(b)(2)+(g): Application for Rate Approval to be effective 11/1/2018|.

Filed Date: 10/15/18.

Accession Number: 201810155057.

Comments Due: 5 p.m. ET 11/5/18.

284.123(g) Protests Due: 5 p.m. ET 12/14/18.

Docket Number: PR19-8-000.

Applicants: DTE Gas Company.

Description: Tariff filing per 284.123(b),(e)/: DTE Gas Company Rate Filing to be effective 10/1/2018.

Filed Date: 10/15/18.

Accession Number: 201810155106.

Comments/Protests Due: 5 p.m. ET 11/5/18.

Docket Numbers: RP19-84-000.

Applicants: Texas Eastern Transmission, LP.

Description: § 4(d) Rate Filing: Negotiated rate—High Rise 8953473 eff 10-16-18 to be effective 10/16/2018.

Filed Date: 10/16/18.

Accession Number: 20181016-5029.

Comments Due: 5 p.m. ET 10/29/18.

Docket Numbers: RP19-85-000.

Applicants: Algonquin Gas Transmission, LLC.

Description: § 4(d) Rate Filing: Negotiated Rate—High Rise 797640 eff 10-17-18 to be effective 10/17/2018.

Filed Date: 10/16/18.

Accession Number: 20181016-5056.

Comments Due: 5 p.m. ET 10/29/18.

Docket Numbers: RP19-86-000.

Applicants: Southern Natural Gas Company, L.L.C.

Description: § 4(d) Rate Filing: OFO Penalty Revisions to be effective 12/1/2018.

Filed Date: 10/16/18.

Accession Number: 20181016-5101.

Comments Due: 5 p.m. ET 10/29/18.

Docket Numbers: RP19-87-000.

Applicants: Dominion Energy Fuel Services, Inc., Dominion Energy Fairless, LLC, Dominion Energy Manchester Street, Inc., Spade Facilities II, L.L.C.

Description: Joint Petition for Temporary Waiver, et al. of Dominion Energy Fuel Services, Inc., et al. under RP19-87.

Filed Date: 10/16/18.

Accession Number: 20181016-5105.

Comments Due: 5 p.m. ET 10/23/18.

Docket Numbers: RP19-88-000.

Applicants: Texas Eastern Transmission, LP.

Description: § 4(d) Rate Filing: Gulf Markets—Global LNG perm release to Total Gas NCF to be effective 10/16/2018.

Filed Date: 10/16/18.

Accession Number: 20181016-5108.

Comments Due: 5 p.m. ET 10/29/18.

Docket Numbers: RP19-89-000.

Applicants: Columbia Gulf Transmission, LLC.

Description: § 4(d) Rate Filing: Global Total Release NC Agmt to be effective 10/16/2018.

Filed Date: 10/16/18.

Accession Number: 20181016-5109.

Comments Due: 5 p.m. ET 10/29/18.

Docket Numbers: RP19-90-000.

Applicants: Natural Gas Pipeline Company of America.

Description: § 4(d) Rate Filing: Negotiated Rate Agreement—Seven Generations to be effective 11/1/2018.

Filed Date: 10/17/18.

Accession Number: 20181017-5000.

Comments Due: 5 p.m. ET 10/29/18.

Docket Numbers: RP19-91-000.

Applicants: Natural Gas Pipeline Company of America.

Description: § 4(d) Rate Filing: Negotiated Rate Agreement—NICOR Gas Company to be effective 11/1/2018.

Filed Date: 10/17/18.

Accession Number: 20181017-5001.

Comments Due: 5 p.m. ET 10/29/18.

Docket Numbers: RP19-92-000.

Applicants: Natural Gas Pipeline Company of America.

Description: § 4(d) Rate Filing: Negotiated Rate Agreement—Tenaska Marketing Ventures to be effective 11/1/2018.

Filed Date: 10/17/18.

Accession Number: 20181017-5002.

Comments Due: 5 p.m. ET 10/29/18.

Docket Numbers: RP19-93-000.

Applicants: Algonquin Gas Transmission, LLC.

Description: § 4(d) Rate Filing: Negotiated Rate—Keyspan release to High Rise 797645 to be effective 10/17/2018.

Filed Date: 10/17/18.

Accession Number: 20181017-5104.

Comments Due: 5 p.m. ET 10/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2018.
Nathaniel J. Davis, Sr.,
Deputy Secretary.

[FR Doc. 2018-23215 Filed 10-23-18; 8:45 am]

BILLING CODE 6717-01-P